SECURITIES AND EXCHANGE COMMISSION

[File No. 500-1]

Petrotech Oil & Gas, Inc.; Order of Suspension of Trading

March 14, 2014.

It appears to the Securities and Exchange Commission that there is a lack of current and accurate information concerning the securities of Petrotech Oil & Gas, Inc. because of questions regarding the accuracy of publicly available information about the company's operations.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 14, 2014, through 11:59 p.m. EDT on March 27, 2014.

By the Commission.
Jill M. Peterson,
Assistant Secretary.

[FR Doc. 2014-06005 Filed 3-14-14; 4:15 pm]

BILLING CODE 8011-01-P